DEPARTMENT OF HEALTH AND HUMAN SERVICES

Administration for Children and Families

Proposed Information Collection Activity; Administration for Children and Families Uniform Project Description

AGENCY: Office of Administration, Office of Grants Policy, Administration for Children and Families, Department of Health and Human Services.

ACTION: Request for public comments.

SUMMARY: The Administration for Children and Families (ACF) is requesting revisions to the approved ACF Uniform Project Description (UPD) (Office of Management and Budget (OMB) #0970-0139, expiration March 31, 2025).

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The proposed information collection would revise the approved ACF UPD. The UPD provides a uniform format for applicants to submit project information in response to ACF discretionary Notices of Funding Opportunity. The UPD requires applicants to describe how program objectives will be achieved and provide a rationale for the project's budgeted costs. All ACF discretionary grant programs are required to use the UPD.

ACF uses this information, along with other OMB-approved information collections (Standard Forms), to evaluate and rank applications. Use of the UPD protects the integrity of the ACF award selection process.

The UDP has been revised as follows: (1) included a text field for the Geographic Location standardized text, which will allow ACF program offices to enter project-specific language; (2) under Organizational Capacity, inserted an option to allow submission of an Audit Summary report in lieu of a full audit report; (3) inserted a checkbox and standardized language to request current and pending funding support; (4) added a prior written approval requirement to Plan for Oversight of Federal Award Funds and Activities; (5) included Memoranda of Agreement (MOA) under Third Party Agreements; and (6) updated The Project Budget and Budget Justification standardized language related to salary limitation, budget preparation, fringe benefits, definition of supplies, contractual costs, accounting for real property, the Other Costs category, and Indirect Costs.

Respondents: Applicants responding to ACF Discretionary Notices of Funding Opportunity.

Annual Burden Estimates
Instrument | Total number of respondents | Total number of responses per respondent | Average burden hours per response | Total burden hours | Annual burden hours
ACF Uniform Project Description | 3,218 | 1 | 60 | 193,080 | 64,360

Estimated Total Annual Burden Hours: 64,360.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR 75.203-75.204, and 45 CFR part 75, appendix I.

Mary B. Jones,
ACF/OPRE Certifying Officer.

[FR Doc. 2022-18136 Filed 8-22-22; 8:45 am]

BILLING CODE 4184-01-P